DEPARTMENT OF TRANSPORTATION

Federal Transit Administration

49 CFR Part 675

[Docket No. FTA-2023-0018]

RIN 2132-AB46

Transit Worker Hours of Service and Fatigue Risk Management Listening Session; Public Meeting

AGENCY: Federal Transit Administration (FTA), Department of Transportation (DOT).

ACTION: Notice of public listening session.

SUMMARY: The Federal Transit Administration (FTA) announces that it will host a listening session concerning the topics of hours of service and fatigue risk management programs for transit workers. The listening session will allow interested persons to present comments, views, and relevant research on those topics. All comments will be summarized and placed in the rulemaking docket for FTA's consideration.

DATES: The listening session will be held on October 8, 2023, in Orlando, Florida, from 11:15 a.m. to 12:45 p.m. ET.

ADDRESSES: The listening session will be held in person at the Hyatt Regency Orlando, 9801 International Drive, Orlando, FL 32819. The session will take place during the American Public Transportation Association's TRANSform Conference and EXPO.

FOR FURTHER INFORMATION CONTACT: For information on the listening session, contact Valerie Beck, Office of Transit Safety and Oversight, FTA, telephone at (202) 366-9178 or Valerie.Beck@dot.gov. Office hours are from 7:30 a.m. to 4:00 p.m., Monday through Friday, except Federal holidays.

SUPPLEMENTARY INFORMATION:

I. Background

FTA plans to issue an Advance Notice of Proposed Rulemaking (ANPRM) seeking public input in two areas: (1) hours of service; and (2) fatigue risk management programs. At present, there are no Federal minimum standards for hours of service and fatigue risk management programs in the transit industry. The listening session will allow interested persons to present comments, views, and relevant research on those topics. FTA would like to hear from members of the public on their views on transit worker fatigue and whether they would support FTA adopting mandatory federal hours of service and fatigue risk management requirements for transit workers. FTA seeks information to understand better current industry practices, priorities, requirements, and the costs and benefits of Federal requirements.

II. Meeting Participation

The listening session is open to the public.

III. Future Meetings

FTA plans to hold additional listening sessions in the future for those unable to attend this in-person listening session. The details of those listening sessions will be published in the Federal Register.

(Authority: 49 U.S.C. 5329; 49 CFR 1.91)

Nuria I. Fernandez,
Administrator.

[FR Doc. 2023-21120 Filed 9-27-23; 8:45 am]

BILLING CODE 4910-57-P